DEPARTMENT OF COMMERCE

National Oceanic and Atmospheric Administration

Marine Protected Areas Federal Advisory Committee; Public Meeting

AGENCY: National Ocean Service, NOAA, Department of Commerce.

ACTION: Notice of open meeting.

SUMMARY: Notice is hereby given of the next meeting of the Marine Protected Areas Federal Advisory Committee (MPA FAC) in Corpus Christi, Texas.

DATES: The meeting will be held Tuesday, November 1, 2005 from 8:30 a.m. to 5 p.m., Wednesday, November 2, 2005 from 8 a.m. to 5 p.m., and Thursday, November 3, 2005 from 8 a.m. to 5 p.m. These times and the agenda topics described below may be subject to change. Refer to the Web page listed below for the most up-to-date meeting agenda.

ADDRESSES: The meeting will be held at the Omni Bayfront Hotel, 900 North Shoreline Boulevard, Portland, Maine 04192.

FOR FURTHER INFORMATION CONTACT: Lauren Wenzel, Designated Federal Officer, MPA FAC, National Marine Protected Areas Center, 1305 East-West Highway, Silver Spring, Maryland 20910. (Phone: 301-713-3100 x136, Fax: 301-713-3110); e-mail: lauren.wenzel@noaa.gov; or visit the National MPA Center Web site at http://www.mpa.gov).

SUPPLEMENTARY INFORMATION: The MPA FAC, composed of external, knowledgeable representatives of stakeholder groups, was established by the Department of Commerce to provide advice to the Secretaries of Commerce and the Interior on implementation of Section 4 of Executive Order 13158 on MPAs. The meeting will be open to public participation, with a one hour time period set aside from 4 p.m. to 5 p.m. on Tuesday, November 1, 2005, and one hour set aside from 8:10 a.m. to 9:10 a.m. on Thursday, November 3, 2005, for the Committee to receive verbal comments or questions from the public. In general, each individual or group making a verbal presentation will be limited to a total time of five (5) minutes. Copies of written statements should be submitted to the Designated Federal Official by Friday, October 28, 2005.

Matters To Be Considered: On Tuesday, November 1, the Committee will elect a chair and vice chair, and will receive its new charge from the Department of Commerce and the Department of the Interior. The Committee will discuss and form the subcommittees needed to address the charge. On Wednesday, November 2, the Committee will receive a response from the Department of Commerce and the Department of the Interior on their recommendations submitted in June 2005, and discuss the framework for developing the national system. On Thursday, November 3, the subcommittees will meet to begin developing a work plan. The agenda is subject to change, and the latest version will be posted at http://www.mpa.gov.

Dated: September 27, 2005.
Eldon Hout,
Director, Office of Ocean and Coastal Resource Management.

[FR Doc. 05-19801 Filed 10-3-05; 8:45 am]

BILLING CODE 3510-08-P